DEPARTMENT OF THE INTERIOR

Bureau of Land Management

[WY-040-1610]

Notice of Availability of the Draft Environmental Impact Statement (EIS) for the Jack Morrow Hills Coordinated Activity Plan (JMHCAP), Sweetwater, Fremont, and Sublette Counties, WY

AGENCY: Bureau of Land Management, Interior.

ACTION: Notice of availability.

SUMMARY: The Bureau of Land Management (BLM) has prepared a draft EIS for the JMHCAP. This is an integrated activity planning effort to provide more specific management direction for the BLM-administered public lands in the Jack Morrow Hills area, located in Sweetwater, Fremont, and Sublette Counties, Wyoming. The draft EIS documents the analysis of four alternatives, including BLM's preferred alterative, for managing the BLM-administered lands in the Jack Morrow Hills planning area. When completed, the JMHCAP will provide a framework for managing the BLM-administered public lands and resources and allocating some of these uses in the planning area. Specifically, this CAP is focused on resolving three resource management issues: Minerals Resource Management and related rights-of-way and the effects of associated surface disturbing and disruptive activities on wildlife, wildlife habitat, and other sensitive resources; Resource Uses Affecting Vegetation, Soils, Air, and Watershed Values, and Recreation; and Cultural Resource Management. The CAP will include land and resource management decisions for fluid mineral leasing and some for mineral location in the core area and related affected areas. These decisions were not ready for inclusion in the Green River Resource Management Plan (RMP), prepared in 1997, and were deferred to the CAP. In addition, this planning effort proposes to determine the appropriate levels and timing of leasing and development of energy resources, while sustaining the other important land and resource uses in the area, and is expected to result in modifying some existing RMP decisions. These deferred and modified RMP decisions will result in amending the Green River RMP. Other actions resulting from this planning effort would include some refinement of management prescriptions for road use and off-highway-vehicular use designations, grazing practices, recreational activities and facilities, identification of rights-of-way windows and concentration areas, and prescriptions for managing wildlife habitat.

When completed, the CAP will provide more specific management direction to address potential conflicts among potential development of energy resources, recreational activities and facilities, livestock grazing, important wildlife habitat, cultural resources, and other important resource and land uses in the planning area. The planning area encompasses approximately 574,800 acres of public land surface and Federal mineral estate administered by the BLM through the Rock Springs Field Office in Rock Springs, Wyoming. The objective of this activity planning effort is to determine the appropriate level and methods of all the possible combinations of land and resource uses that are mutually compatible and that provide for the important resource concerns in the area, such as sustainability of crucial big game habitat, air and water quality, scenic quality, vegetative cover and soil stability, recreational activities, livestock grazing and range improvement activities, mineral development, and other important resource concerns. The CAP also provides more specific management direction for the planning area toward preventing or addressing potential conflicts among or resulting from the various uses. Other actions that may result from this planning effort include: Determining the appropriate level and timing of leasing and development of energy resources within the JMHCAP area, transportation and access planning, designation of off-highway-vehicular use, livestock grazing practices, etc.

The JMHCAP planning area encompasses the Steamboat Mountain, Greater Sand Dunes, White Mountain Petroglyphs, and Oregon Buttes Areas of Critical Environmental Concern (ACEC); a portion of the South Pass Historic Landscape ACEC; the Oregon Buttes, Honeycomb Buttes, Greater Sand Dunes, Buffalo Hump, Whitehorse Creek, South Pinnacles, and Alkali Draw Wilderness Study Areas (WSAs); and three special recreation management areas: Greater Sand Dunes, Continental Divide National Scenic Trail, and the Oregon/Mormon Pioneer/Pony Express/California National Historic Trails.

Notice is hereby given that public meetings will be held to seek public comment on the draft EIS.

DATES: Written comments will be accepted for 90 days following the date the Environmental Protection Agency publishes the notice of filing of the draft EIS for the JMHCAP in the Federal Register. That notice is expected to be published on July 7, 2000. Two public open houses to discuss the draft EIS will be held in Lander, Wyoming, at the Best Western Inn, on July 18, 2000, from 4-8 p.m., and in Rock Springs, Wyoming at the BLM Office on July 20, 2000, from 4-8 p.m. A field tour will be conducted on July 21, 2000. A public hearing will be held at 7 p.m. on August 23, 2000, at the Western Wyoming Community College, Room 1302, in Rock Springs. These meetings will be conducted to obtain public input and comment on the draft EIS. Future meetings or hearings and any other public involvement activities will be scheduled as needed. Notification will be through the Federal Register, other public notices, media news releases, or mailings.

ADDRESSES: Written comments should be sent to: JMHCAP Team Leader, Bureau of Land Management, Rock Springs Field Office, 280 Highway 191 North, Rock Springs, Wyoming 82901, telephone number 307-352-0256. Comments submitted by electronic mail should be sent to: rock_springs_wymail@blm.gov. If you wish to withhold your name and/or street address, and private telephone number from public review or from disclosure under the Freedom of Information Act, you must state this prominently at the beginning of your written comment. Such requests will be honored to the extent allowed by law. All submissions from organizations or businesses, and from individuals representing, or who are officials of organizations or businesses, will be made available for public inspection in their entirety.

FOR FURTHER INFORMATION CONTACT: Ted Murphy, Assistant Field Manager or Andy Tenney, Recreation Specialist, Rock Springs Field Office, Bureau of Land Management, office address and telephone number above.

SUPPLEMENTARY INFORMATION: Based upon concerns raised by the public during preparation of the Green River RMP, the BLM is preparing the JMHCAP. When completed, the CAP will provide management direction for the protection of important resources (e.g., desert elk and other big game habitat, unique sand dune-mountain shrub habitat, unstabilized-stabilized sand dunes) while allowing for appropriate levels of leasing and development of energy resources, recreational activities, grazing practices, and other activities. The JMHCAP planning area has many pristine locations and encompasses Steamboat Mountain, the Greater Sand Dunes, Oregon Buttes and White Mountain Petroglyphs Areas of Critical Environmental Concern (ACEC), seven WSAs, and part of the South Pass Historic Landscape ACEC.

The entire JMHCAP area contains about 622,330 acres of Federal, State, and private lands. The core area, where fluid leasing and mineral location RMP decisions have been deferred, contains approximately 80,410 acres. This planning effort also addresses other concerns found within the JMHCAP area including appropriate level and timing of leasing and development of energy resources, while sustaining other important land uses and resources such as big game habitat, recreation, and grazing. Other actions considered in this planning effort include transportation planning, off-highway-vehicular use designations and designation of roads for use, identifying grazing practices, and recreational activities and associated facilities.

Public participation has been sought through scoping, public meetings, and field trips to ensure that this planning effort addresses all issues and concerns from those interested in the management of public lands within the CAP planning area.

The Draft EIS for the Jack Morrow Hills CAP describes and evaluates four alternative coordinated activity plans, including BLM's preferred alternative, for providing management direction for the BLM-administered public lands in the CAP planning area. Each alternative analyzed in detail provides a complete and reasonable plan that could be used to guide the management of the planning area.

The preferred alternative consists of management actions derived from the other alternatives analyzed in detail, and a few management actions that are unique to the Preferred Alternative. Development of the preferred alternative was based on the analysis of the other alternatives and was formulated to represent the BLM's preference of the best mix and balance of multiple-use land and resource management for the BLM-administered public lands in the planning area.

There are five ACECs in the planning area and the designations on these ACECs were retained in the Green River RMP. However, one alternative considers expanding two of the ACECs, one of which is not currently within the planning area. The Special Status Plant Species ACEC (located outside the planning area) would be expanded to include lands within the CAP planning area that are occupied by populations of Lesquerella macrocarpa, and the Steamboat Mountain ACEC would be considered for expansion to include overlapping crucial big game habitats surrounding and adjacent to the Steamboat Mountain ACEC. The management actions for the expanded ACECs include restrictions on surface-disturbing activities and other land uses, such as, limitations on oil and gas, coal and sodium exploration and development activities, geophysical exploration, right-of-way construction, and off-road vehicular travel. Portions of these ACECs may be closed to future locatable mineral exploration and development, subject to valid existing rights. The level of these various kinds of restrictions and types of land uses affected would be different in each expanded area.

There are seven WSAs within the planning area: Oregon Buttes, Honeycomb Buttes, Greater Sand Dunes, Buffalo Hump, Whitehorse Creek, South Pinnacles, and Alkali Draw WSAs. Management of these WSAs has been addressed in other Wilderness EIS documents, therefore, wilderness management is not addressed in the JMHCAP EIS. When Congress makes decisions on the designation of Wilderness areas in the Jack Morrow Hills planning area, those decisions will be incorporated into the CAP and the Green River RMP and, if necessary, the RMP would be amended accordingly. Until Congress acts, the WSAs will be managed under the Wilderness Interim Management Policy.

Copies of the draft EIS for the JMHCAP are available in the Rock Springs Field Office at the above address, the Bureau of Land Management, Lander Field Office, 1335 Main Street, Lander, Wyoming 82520, and the Bureau of Land Management Wyoming State Office, 5353 Yellowstone Road, Cheyenne, Wyoming 82009. Anyone wishing to be placed on the mailing list for the Jack Morrow Hills Coordinated Activity Plan effort should contact the Rock Springs Field Office at the above address.

Dated: June 22, 2000.
Alan L. Kesterke,
Associate State Director.

[FR Doc. 00-16440 Filed 6-29-00; 8:45 am]

BILLING CODE 4320-22-P